DEPARTMENT OF ENERGY

Federal Energy Regulatory Commission

[Docket No. CP06-449-000]

Kinder Morgan Louisiana Pipeline, L.L.C.; Notice of Public Meetings To Receive Comments on the Draft Environmental Impact Statement for the Proposed Kinder Morgan Louisiana Pipeline Project

February 2, 2007.

On January 26, 2007, the staff of the Federal Energy Regulatory Commission issued a draft Environmental Impact Statement (EIS) for the proposed Kinder Morgan Louisiana Pipeline Project. We will hold two public meetings to receive comments on the draft EIS.

The public meetings are designed to provide an opportunity for landowners, concerned citizens, and other stakeholders to offer comments on the draft EIS and environmental issues they believe should be addressed in the final EIS. To ensure that every comment is accurately recorded, a court reporter will be present to prepare an official transcript of each meeting. All interested parties are invited to attend the following public comment meetings:

Monday, February 26th: 6:30-9:30 p.m., Best Western Richmond Suites, Jean Lafitte Rooms I and II, 2600 Moeling Street, Lake Charles, LA.

Tuesday, February 27th: 6:30-9:30 p.m., Holiday Inn, 603 Holiday Drive, Jennings, LA.

For additional information, contact the Commission's Office of External Affairs at 1-866-208-FERC (3372).

Magalie R. Salas,
Secretary.

[FR Doc. E7-2267 Filed 2-9-07; 8:45 am]

BILLING CODE 6717-01-P